DEPARTMENT OF AGRICULTURE

Farm Service Agency

Natural Resources Conservation Service

Risk Management Agency

2018 Farm Bill Implementation Listening Session

AGENCY: Farm Service Agency, Natural Resources Conservation Service, and Risk Management Agency, USDA.

ACTION: Notice.

SUMMARY: In preparing to implement the Agriculture Improvement Act of 2018 (commonly referred to as the 2018 Farm Bill), we are hosting a listening session for initial public input about new programs and changes to existing programs implemented by the Farm Service Agency (FSA), the Natural Resources Conservation Service (NRCS), and the Risk Management Agency (RMA). The 2018 Farm Bill is intended to provide support, certainty, and stability to our Nation's farmers, ranchers, and land stewards by enhancing farm support programs, improving crop insurance, maintaining disaster programs, and promoting and supporting voluntary conservation. We invite you to participate in the listening session. The listening session is open to the public.

DATES:

Listening session: The listening session will be on February 26, 2019, and will begin at 9 a.m.

Registration: You must register by February 22, 2019, to attend the listening session and are encouraged to provide written comments prior to the listening session.

Comments: For those orally presenting comments at the listening session, written comments are encouraged by February 22, 2019. Additional written comments will be accepted through March 1, 2019.

ADDRESSES:

Listening session: The meeting will be held in the Jefferson Auditorium of the South Building at 14th Street and Independence Ave. SW, Washington, DC 20250. Entry to the South Building for the listening session is through Wing 5 on Independence Ave.; valid photo identification is required.

Registration: To register, visit https://www.farmers.gov/farmbill.

Comments: We invite you to submit comments on this notice. In your comments, include the date, volume, and page number of this issue of the Federal Register, and the title of notice. You may submit comments by any of the following methods:

• Federal eRulemaking Portal: Go to http://www.regulations.gov and search for Docket ID USDA-2019-0001. Follow the online instructions for submitting comments.

• You may submit your written comments at the listening session.

All written comments received will be publicly available on www.regulations.gov.

FOR FURTHER INFORMATION CONTACT: Andrew Fisher; phone: (202) 692-5298 or email: Andrew.Fisher@osec.usda.gov. Persons with disabilities who require alternative means for communication should contact the USDA Target Center at (202) 720-2600 (voice).

SUPPLEMENTARY INFORMATION: The listening session will provide an opportunity for stakeholders to share their thoughts about how USDA can streamline and improve program delivery, as well as enhance customer service. Examples of programs FSA implements include the Agriculture Risk Coverage (ARC) and Price Loss Coverage (PLC) programs, the Dairy Margin Coverage (DMC) Program, the Noninsured Crop Disaster Assistance Program (NAP), the Conservation Reserve Program (CRP), and farm ownership and operating loans. NRCS implements the Environmental Quality Incentives Program (EQIP), the Conservation Stewardship Program (CSP), the Agricultural Conservation Easement Program (ACEP), the Regional Conservation Partnership Program (RCPP), and other conservation provisions. RMA implements crop insurance coverage. We invite you to participate in the listening session. The listening session is open to the public.

On December 20, 2018, the 2018 Farm Bill (Pub. L. 115-334) was signed into law (see https://www.congress.gov/bill/115th-congress/house-bill/2/text). The Secretary of Agriculture and the respective USDA agencies, including, but not limited to FSA, NRCS, and RMA, are working to implement the provisions of the 2018 Farm Bill as expeditiously as possible to meet the needs of producers and other stakeholders. To allow for customer input and ensure transparency, it is important to hear from stakeholders regarding their priorities, concerns, and requests.

The purpose of the listening session is for FSA, NRCS, and RMA to hear from the public; this is not a discussion with FSA, NRCS, and RMA officials or a question and answer session. The purpose is to receive public input that each agency can factor into discretionary decisions that need to be made to implement the provisions of the 2018 Farm Bill.

Date | Time | Location information
February 26, 2019 | 9 a.m | USDA headquarters, in the South Building, Jefferson Auditorium, 14th Street and Independence Ave. SW, Washington, DC 20250.

The listening session will begin with brief opening remarks from USDA. Individual speakers providing oral comments will be limited to 3-5 minutes each; however, if all speakers can be accommodated within the allotted time for the session, individual speaking times may be adjusted at the written request of the stakeholder (use the contact information above). As noted above, we request that speakers providing oral comments also provide a written copy of their comments by February 22, 2019. All stakeholders and interested members of the public are welcome to register to provide oral and written comments; however, based on the session time or topic area constraints, USDA may not be able to allocate time for all registered attendees to provide oral comments during the session.

The purpose of the listening session is for FSA, NRCS, and RMA to hear from stakeholders and other interested members of the public about the programs that are being implemented or revised by FSA, NRCS, or RMA as required by the 2018 Farm Bill. Please refer to the name of the FSA, NRCS, or RMA program in your comment and the relevant section number in the 2018 Farm Bill. In your comments, provide your input about the program(s), changes, and anything else that may be helpful to USDA. The following list of programs span multiple sections in the 2018 Farm Bill or have program names that may not be obvious from the section title (see listing below for complete section-by-section names):

• Revised ARC and PLC Programs (2018 Farm Bill sections 1101-1107);

• Revised Marketing Assistance Loans and Loan Deficiency Payments and the extension of the Sugar Program and the related Feedstock Flexibility Program (2018 Farm Bill sections 1201-1205; 1301; 9009);

• New DMC and Other Dairy-Related Provisions (2018 Farm Bill section 1401);

• Revised disaster assistance programs (2018 Farm Bill sections 1501; 1601);

• Common provisions for payment limitations and payment eligibility (2018 Farm Bill sections 1703-1704);

• FSA accountability, streamlining, and related provisions (2018 Farm Bill sections 1705-1707);

• Wetland conservation and mitigation banking provisions (2018 Farm Bill sections 2101-2102);

• CRP (2018 Farm Bill sections 2201-2209);

• EQIP (2018 Farm Bill sections 2301-2306);

• Conservation Innovation Grants and Payments (2018 Farm Bill section 2307);

• CSP (2018 Farm Bill section 2308);

• Other conservation provisions, including ACEP and RCPP (2018 Farm Bill sections 2309-2822);

• Farm Loans (2018 Farm Bill sections 5101-5416);

• Biomass Crop Assistance Program (2018 Farm Bill section 9010);

• Crop Insurance (2018 Farm Bill sections 11101-11126);

To identify the section numbers for your comments and to find the relevant text for FSA, NRCS, and RMA programs in the 2018 Farm Bill, the following is an excerpt from the 2018 Farm Bill Table of Contents that focuses on the sections for the FSA, NRCS, and RMA programs:

Title I—Commodities

Subtitle A—Commodity Policy

Sec. 1101. Definition of effective reference price.

Sec. 1102. Base acres.

Sec. 1103. Payment yields.

Sec. 1104. Payment acres.

Sec. 1105. Producer election.

Sec. 1106. Price loss coverage.

Sec. 1107. Agriculture risk coverage.

Subtitle B—Marketing Loans

Sec. 1201. Extensions.

Sec. 1202. Loan rates for nonrecourse marketing assistance loans.

Sec. 1204. Special competitive provisions for extra long staple cotton.

Sec. 1205. Availability of recourse loans.

Subtitle C—Sugar

Sec. 1301. Sugar policy.

Subtitle D—Dairy Margin Coverage and Other Dairy Related Provisions

Sec. 1401. Dairy margin coverage.

Sec. 1402. Reauthorizations.

Subtitle E—Supplemental Agricultural Disaster Assistance

Sec. 1501. Supplemental agricultural disaster assistance.

Subtitle F—Noninsured Crop Assistance

Sec. 1601. Noninsured crop assistance program.

Subtitle G—Administration

Sec. 1702. Suspension of permanent price support authority.

Sec. 1703. Payment limitations.

Sec. 1704. Adjusted gross income limitations.

Sec. 1705. Farm Service Agency accountability.

Sec. 1706. Implementation.

Sec. 1707. Exemption from certain reporting requirements for certain producers.

Title II—Conservation

Subtitle A—Wetland Conservation

Sec. 2101. Wetland conversion.

Sec. 2102. Wetland conservation.

Sec. 2103. Mitigation banking.

Subtitle B—Conservation Reserve Program

Sec. 2201. Conservation reserve.

Sec. 2202. Conservation reserve enhancement program.

Sec. 2203. Farmable wetland program.

Sec. 2204. Pilot programs.

Sec. 2205. Duties of owners and operators.

Sec. 2206. Duties of the Secretary.

Sec. 2207. Payments.

Sec. 2208. Contracts.

Sec. 2209. Eligible land; State law requirements.

Subtitle C—Environmental Quality Incentives Program and Conservation Stewardship Program

Sec. 2302. Purposes of environmental quality incentives program.

Sec. 2303. Definitions under environmental quality incentives program.

Sec. 2304. Establishment and administration of environmental quality incentives program.

Sec. 2305. Environmental quality incentives program plan.

Sec. 2306. Limitation on payments under environmental quality incentives program.

Sec. 2307. Conservation innovation grants and payments.

Sec. 2308. Conservation stewardship program.

Sec. 2309. Grassland conservation initiative.

Subtitle D—Other Conservation Programs

Sec. 2401. Watershed protection and flood prevention.

Sec. 2402. Soil and water resources conservation.

Sec. 2403. Emergency conservation program.

Sec. 2404. Conservation of private grazing land.

Sec. 2405. Grassroots source water protection program.

Sec. 2406. Voluntary public access and habitat incentive program.

Sec. 2407. Wildlife management.

Sec. 2408. Feral swine eradication and control pilot program.

Sec. 2409. Report on small wetlands.

Sec. 2410. Sense of Congress relating to increased watershed-based collaboration.

Subtitle E—Funding and Administration

Sec. 2501. Commodity Credit Corporation.

Sec. 2502. Delivery of technical assistance.

Sec. 2503. Administrative requirements for conservation programs.

Sec. 2504. Temporary administration of conservation programs.

Subtitle F—Agricultural Conservation Easement Program

Sec. 2601. Establishment and purposes.

Sec. 2602. Definitions.

Sec. 2603. Agricultural land easements.

Sec. 2604. Wetland reserve easements.

Sec. 2605. Administration.

Subtitle G—Regional Conservation Partnership Program

Sec. 2701. Establishment and purposes.

Sec. 2702. Definitions.

Sec. 2703. Regional conservation partnerships.

Sec. 2704. Assistance to producers.

Sec. 2705. Funding.

Sec. 2706. Administration.

Sec. 2707. Critical conservation areas.

Title V—Credit

Subtitle A—Farm Ownership Loans

Sec. 5101. Modification of the 3-year experience eligibility requirement for farm ownership loans.

Sec. 5102. Conservation loan and loan guarantee program.

Sec. 5103. Limitations on amount of farm ownership loans.

Sec. 5104. Relending program to resolve ownership and succession on farmland.

Subtitle B—Operating Loans

Sec. 5201. Limitations on amount of operating loans.

Sec. 5202. Microloans.

Sec. 5203. Cooperative lending pilot projects.

Subtitle C—Administrative Provisions

Sec. 5301. Beginning farmer and rancher individual development accounts pilot program.

Sec. 5302. Loan authorization levels.

Sec. 5303. Loan fund set-asides.

Sec. 5304. Use of additional funds for direct operating microloans under certain conditions.

Sec. 5305. Equitable relief.

Sec. 5306. Socially disadvantaged farmers and ranchers; qualified beginning farmers and ranchers.

Sec. 5307. Emergency loan eligibility.

Subtitle D—Miscellaneous

Sec. 5402. State agricultural mediation programs.

Sec. 5403. Compensation of bank directors.

Sec. 5404. Sharing of privileged and confidential information.

Sec. 5406. Removal and prohibition authority; industry-wide prohibition.

Sec. 5407. Jurisdiction over institution-affiliated parties.

Sec. 5408. Definition of institution-affiliated party.

Sec. 5409. Prohibition on use of funds.

Sec. 5410. Expansion of acreage exception to loan amount limitation.

Sec. 5412. Corporation as conservator or receiver; certain other powers.

Sec. 5413. Reporting.

Sec. 5414. Study on loan risk.

Sec. 5415. GAO report on ability of the Farm Credit System to meet the agricultural credit needs of Indian tribes and their members.

Sec. 5416. GAO report on credit service to socially disadvantaged farmers and ranchers.

Title VIII—Forestry

Sec. 8628. Purchase of Natural Resources Conservation Service property, Riverside County, California.

Title IX—Energy

Sec. 9009. Feedstock flexibility.

Sec. 9010. Biomass Crop Assistance Program.

Title XI—Crop Insurance

Sec. 11101. Definitions.

Sec. 11102. Data collection.

Sec. 11103. Sharing of records.

Sec. 11104. Use of resources.

Sec. 11105. Specialty crops.

Sec. 11106. Insurance period.

Sec. 11107. Cover crops.

Sec. 11108. Underserved producers.

Sec. 11109. Treatment of forage and grazing.

Sec. 11110. Administrative basic fee.

Sec. 11111. Enterprise units.

Sec. 11112. Continued authority.

Sec. 11113. Submission of policies and materials to board.

Sec. 11114. Crop production on native sod.

Sec. 11115. Use of national agricultural statistics service data to combat waste, fraud, and abuse.

Sec. 11116. Submission of information to corporation.

Sec. 11117. Continuing education for loss adjusters and agents.

Sec. 11118. Program administration.

Sec. 11119. Agricultural commodity.

Sec. 11120. Maintenance of policies.

Sec. 11121. Reimbursement of research, development, and maintenance costs.

Sec. 11122. Research and development authority.

Sec. 11123. Funding for research and development.

Sec. 11124. Technical amendment to pilot programs.

Sec. 11125. Education and risk management assistance.

Title XII—Miscellaneous

Subtitle A—Livestock

Sec. 12104. Definition of livestock.

Subtitle C—Historically Underserved Producers

Sec. 12303. Tribal Advisory Committee.

Sec. 12304. Beginning farmer and rancher coordination.

Sec. 12306. Availability of Department of Agriculture programs for veteran farmers and ranchers.

Subtitle D—Department of Agriculture Reorganization Act of 1994 Amendments

Sec. 12410. Natural Resources Conservation Service.

Part I—Miscellaneous Agriculture Provisions

Sec. 12612. National agriculture imagery program.

Sec. 12615. Eligibility for operators on heirs property land to obtain a farm number.

Sec. 12618. Data on conservation practices.

Instructions for Attending the Meeting

Space for attendance at the listening session is limited. All persons wishing to attend the listening session must register at https://www.farmers.gov/farmbill by February 22, 2019. To register, information will be required, including, but not limited to:

• Attendee contact information;

• Company or organization representation information;

• Farm Bill topic interests; and

• If you would like to speak, written comments.

Upon arrival at the 5th wing of the USDA South Building, registered persons must provide valid photo identification to enter. Please allow extra time to get through security.

All written comments received will be publicly available on www.regulations.gov.

If you require special accommodations, such as a sign language interpreter, use the contact information above. The listening session location is accessible to persons with disabilities.

FSA, RMA, and NRCS are interested in all comments, but in particular request input on:

FSA

1. Specific ideas to simplify program implementation and enhance customer service.

2. Producers who apply for FSA, NRCS, and RMA benefits are required to file common eligibility forms including the CCC-902 Farm Operating Plan, the CCC-941 Certification of Average Adjusted Gross Income, and the AD-1026 Certification of compliance with Highly Erodible Lands and Wetland Conservation provisions. How can FSA improve the process for obtaining these forms from program applicants?

3. What changes to NAP requirements would improve and simplify the process for submitting acreage reports and required records for diverse production systems (such as urban, small-scale, and direct-to-consumer production systems)?

4. The 2018 Farm Bill requires better coordination between FSA and NRCS regarding CRP, EQIP, and CSP. How can we better coordinate the programs?

5. The 2018 Farm Bill provides a new CRP pilot, the Soil Health and Income Protection Pilot Program. What can we do to most effectively implement this pilot? Specifically, what does the public recommend for perennial conserving use cover?

6. Would DMC participants have an interest in a premium fee payment option for any current year premiums (2019) to be deducted before indemnity payments are made for 2019?

7. The 2018 Farm Bill raises the level of loan guarantees to 95 percent of the outstanding principal for socially disadvantaged and beginning farmers. Are there other programmatic changes that FSA should consider to enhance the level of participation by socially disadvantaged and beginning farmers in the guaranteed loan programs?

RMA

1. Specific ideas to simplify program implementation and enhance customer service.

2. Specific examples of how cover crop use has affected insurability or a claim determination. If so, what adjustments to the Cover Crop Termination Guidelines should RMA consider?

3. Specific ideas to reduce paperwork and reporting requirements for Whole Farm Revenue Protection while ensuring program integrity.

4. Specific ideas for how crop insurance can meet the needs of specialty crop growers and those involved in the local food movement.

NRCS

1. Specific ideas to simplify program implementation and enhance customer service.

2. Specific ideas on how NRCS can use its programs to support precision agriculture.

3. Mechanisms to improve the targeting of financial resources to address resource concerns.

4. The 2018 Farm Bill introduced a new incentive contract enrollment option for EQIP that provides for practice installment and annual payments. How should EQIP and CSP be used in conjunction with each other to prevent overlap and improve opportunities for producers to address resource concerns?

5. The 2018 Farm Bill includes EQIP provisions for water conservation or irrigation efficiency practices that are available to States, irrigation districts, groundwater management districts, acequia, land-grant mercedes, or similar entities under a streamlined contracting process to implement water conservation or irrigation practices under a watershed-wide project that will effectively conserve water, provide fish and wildlife habitat, or provide for drought-related environmental mitigation, as determined by the Secretary. What issues or factors should NRCS consider when developing procedures to implement these provisions?

6. Both CSP and EQIP have provisions for organic producers. How should the programs be used to maximize service to producers while avoiding overlap and competition between CSP and EQIP?

7. The 2018 Farm Bill updated the Conservation Innovation Grants provisions to expand the list of eligible partners and focus a portion of the enrollment to on-farm conservation trials pursuing new or innovative conservation approaches. The term “new or innovative” is defined as precision agriculture technologies, enhanced nutrient management plans, nutrient recovery systems, and fertilization systems; water management systems; soil health management, including systems addressing soil carbon levels; resource-conserving crop rotations; cover crops; irrigation systems; and any other conservation approach approved by the Secretary as new or innovative. What criteria should NRCS use to prioritize funding proposals defined as “new or innovative” approaches?

8. The 2018 Farm Bill introduces new authority under ACEP—Agricultural Land Easements in the “Buy-Protect-Sell” provision (see section 2602 of the 2018 Farm Bill). Describe scenarios where you anticipate having a quality conservation easement that is legally effective under the “Buy-Protect-Sell” provisions in the 2018 Farm Bill.

9. The 2018 Farm Bill modified the requirements for the non-Federal share provided by eligibility entities under ACEP Agricultural Land Easements. The Managers' report indicates that the program should not be limited to entities that can provide a cash match. Further, the Managers' report indicates that Congress does not intend for NRCS to reject cash matches entirely but broaden options available to eligible entities. How can NRCS ensure both equity for producers and flexibility for entities? (See House Report 115-1072 for the Managers' Report, at the end.)

10. For RCPP:

• What are ways to streamline program administration and increase transparency?

• How should NRCS prioritize partner contributions (financial and in-kind)?

• The 2018 Farm Bill encourages NRCS and partners to move RCPP projects toward environmental, economic, and social outcomes-based reporting. What are ideas for doing so?

• What are ways for NRCS to incentivize participation of historically underserved producers in RCPP projects?

William Northey,
Under Secretary, Farm Production and Conservation.

[FR Doc. 2019-02360 Filed 2-11-19; 4:15 pm]

BILLING CODE 3410-05-P